DEPARTMENT OF TRANSPORTATION

Federal Aviation Administration

14 CFR Part 39

[Docket No. 2003-CE-35-AD; Amendment 39-13317; AD 2003-19-14]

RIN 2120-AA64

Airworthiness Directives; Burkhart Grob Luft—und Raumfahrt GmbH & CO KG Models G103 Twin Astir, G103 Twin II, G103A Twin II Acro, and G103C Twin III Acro Sailplanes

AGENCY: Federal Aviation Administration (FAA), DOT.

ACTION: Final rule; request for comments.

SUMMARY: The FAA is adopting a new airworthiness directive (AD) for all BURKHART GROB LUFT—UND RAUMFAHRT GmbH & CO KG (GROB) Models G103 TWIN ASTIR, G103 TWIN II, G103A TWIN II ACRO, and G103C TWIN III ACRO sailplanes. This AD requires you to modify the airspeed indicators and install a flight speed reduction placard and an aerobatic maneuver restriction placard (as applicable). This AD also requires you to revise the flight and maintenance manual. This AD is the result of mandatory continuing airworthiness information (MCAI) issued by the airworthiness authority for Germany. We are issuing this AD to prevent the possibility of damage to the fuselage during limit load flight due to inadequate safety margins designed into the fuselage. Such a condition could result in reduced structural integrity of the fuselage and lead to loss of control of the sailplane.

DATES: This AD becomes effective on October 20, 2003.

The Director of the Federal Register approved the incorporation by reference of certain publications listed in the regulation as of October 20, 2003.

We must receive any comments on this proposed AD by October 31, 2003.

ADDRESSES: Use one of the following to submit comments on this AD:

• By mail: FAA, Central Region, Office of the Regional Counsel, Attention: Rules Docket No. 2003-CE-35-AD, 901 Locust, Room 506, Kansas City, Missouri 64106.

• By fax: (816) 329-3771.

• By e-mail: 9-ACE-7-Docket@faa.gov. Comments sent electronically must contain “Docket No. 2003-CE-35-AD” in the subject line. If you send comments electronically as attached electronic files, the files must be formatted in Microsoft Word 97 for Windows or ASCII.

You may get the service information identified in this AD from GROB Luft-und Raumfahrt, Lettenbachstrasse 9, D-86874 Tussenhausen-Mattsies, Germany; telephone: 011 49 8268 998139; facsimile: 011 49 8268 998200; email: productsupport@grob-aerospace.de.

You may view the AD docket at FAA, Central Region, Office of the Regional Counsel, Attention: Rules Docket No. 2003-CE-35-AD, 901 Locust, Room 506, Kansas City, Missouri 64106. Office hours are 8 a.m. to 4 p.m., Monday through Friday, except Federal holidays.

FOR FURTHER INFORMATION CONTACT: Gregory A. Davison, Aerospace Engineer, FAA, Small Airplane Directorate, 901 Locust, Room 301, Kansas City, Missouri 64106; telephone: (816) 329-4130; facsimile: (816) 329-4090.

SUPPLEMENTARY INFORMATION:

Discussion

What events have caused this AD? The LBA, which is the airworthiness authority for Germany, recently notified FAA that an unsafe condition may exist on all GROB Models G103 TWIN ASTIR, G103 TWIN II, G103A TWIN II ACRO, and G103C TWIN III 2 ACRO sailplanes. The LBA reports that the safety margins established into the design of the fuselage may not be sufficient to sustain limit loads during certain maneuvers and during flight at certain speeds.

The manufacturer will continue to investigate the effects of certain flight conditions on the fuselage structure. After completing this investigation, FAA may take additional AD action.

What are the consequences if the condition is not corrected? If not prevented, damage to the fuselage could result in reduced structural integrity. This condition could lead to loss of control of the sailplane.

Is there service information that applies to this subject? GROB has issued Alert Service Bulletin No. ASB315-63/2, dated June 2, 2003, and Alert Service Bulletin No. ASB315-64, dated June 30, 2003.

What are the provisions of this service information? These service bulletins include procedures for:

—Modifying the air speed indicators;

—Installing placards restricting flight speeds, prohibiting aerobatic maneuvers, and restricting load limits; and

—Incorporating revisions to the flight and maintenance manuals.

What action did the LBA take? The LBA classified these service bulletins as mandatory and issued German AD Number 2003-185, dated May 30, 2003, and German AD Number 2003-231, dated July 16, 2003, in order to ensure the continued airworthiness of these sailplanes in Germany.

Was this in accordance with the bilateral airworthiness agreement? These GROB Models G103 TWIN ASTIR, G103 TWIN II, G103A TWIN II ACRO, and G103C TWIN III ACRO sailplanes are manufactured in Germany and are type-certificated for operation in the United States under the provisions of § 21.29 of the Federal Aviation Regulations (14 CFR 21.29) and the applicable bilateral airworthiness agreement.

Per this bilateral airworthiness agreement, the LBA has kept us informed of the situation described above.

FAA's Determination and Requirements of the Proposed AD

What has FAA decided? We have examined the LBA's findings, reviewed all available information, and determined that AD action is necessary for products of this type design that are certificated for operation in the United States.

Since the unsafe condition described previously is likely to exist or develop on other GROB Models G103 TWIN ASTIR, G103 TWIN II, G103A TWIN II ACRO, and G103C TWIN III ACRO sailplanes of the same type design that are registered in the United States, this AD is being issued to prevent the possibility of damage to the fuselage during limit load flight due to inadequate safety margins designed into the fuselage. Such a condition could result in reduced structural integrity of the fuselage and lead to loss of control of the sailplane.

What does this AD require? This AD requires you to incorporate the actions in the previously-referenced service bulletins.

In preparation of this rule, we contacted type clubs and aircraft operators to obtain technical information and information on operational and economic impacts. We did not receive any information through these contacts. If received, we would have included, in the rulemaking docket, a discussion of any information that may have influenced this action.

What are the differences between this AD, the LBA AD, and the service information? The LBA AD and the service information require completion of the actions required in this AD prior to further flight. We require completion of all actions within the next 10 hours time-in-service (TIS) after the effective date of this AD.

We do not have justification to require this action prior to further flight. We use compliance times such as this when we have identified an urgent safety of flight situation. We believe that 10 hours TIS will give the owners or operators of the affected airplanes enough time to have the actions required by this AD accomplished without compromising the safety of the airplanes.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment prior to the issuance of the rule? This AD is a final rule that involves requirements affecting flight safety and was not preceded by notice and an opportunity for public comment; however, we invite you to submit any written relevant data, views, or arguments regarding this AD. Send your comments to an address listed under ADDRESSES. Include “AD Docket No. 2003-CE-35-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Regulatory Findings

Will this AD impact various entities? We have determined that this AD will not have federalism implications under Executive Order 13132. This AD will not have a substantial direct effect on the States, on the relationship between the national government and the States, or on the distribution of power and responsibilities among the various levels of government.

Will this proposed AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-CE-35-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2003-19-14 Burkhart Grob Luft—und Raumfahrt Gmbh & Co KG: Amendment 39-13317; Docket No. 2003-CE-35-AD.

When Does This AD Become Effective?

(a) This AD becomes effective on October 20, 2003.

What Other ADs Are Affected By This Action?

(b) None.

What Sailplanes Are Affected by This AD?

(c) This AD affects the following sailplane models and serial numbers that are certificated in any category:

Model | Serial Nos.
G103 TWIN ASTIR | All.
G103 TWIN II | All.
G103A TWIN II ACRO | All.
G103C TWIN III ACRO | All.

What Is The Unsafe Condition Presented in This AD?

(d) This AD is the result of mandatory continuing airworthiness information (MCAI) issued by the airworthiness authority for Germany. We are issuing this AD to prevent the possibility of damage to the fuselage during limit load flight due to inadequate safety margins designed into the fuselage. Such a condition could result in reduced structural integrity of the fuselage and lead to loss of control of the sailplane.

What Must I Do To Address This Problem?

(e) To address this problem, you must accomplish the following:

Actions | Compliance | Procedures
Modify the airspeed indicators; install flight speed, aerobatic maneuver, and load limit restriction placards (as applicable); and revise the flight and maintenance manual (as applicable) | Within the next 10 hours time-in-service (TIS) after October 20, 2003 (the effective date of this AD) | Per GROB Alert Service Bulletin No. ASB315-63/2, dated June 2, 2003, and Alert Service Bulletin No. ASB315-64, dated June 30, 2003.

What About Alternative Methods of Compliance?

(f) You may request a different method of compliance or a different compliance time for this AD by following the procedures in 14 CFR 39.13. Send your request to the Manager, Standards Office, Small Airplane Directorate, FAA. For information on any already approved alternative methods of compliance, contact Gregory A. Davison, Aerospace Engineer, FAA, Small Airplane Directorate, 901 Locust, Room 301, Kansas City, Missouri 64106; telephone: (816) 329-4130; facsimile: (816) 329-4090.

Is There Material Incorporated by Reference?

(g) You must do the actions required by this AD must be done in accordance with GROB Alert Service Bulletin No. ASB315-63/2, dated June 2, 2003, and GROB Alert Service Bulletin No. ASB315-64, dated June 30, 2003. The Director of the Federal Register approved the incorporation by reference of this service bulletin in accordance with 5 U.S.C. 552(a) and 1 CFR part 51. You may get a copy from GROB Luft-und Raumfahrt, Lettenbachstrasse 9, D-86874 Tussenhausen-Mattsies, Germany; telephone: 011 49 8268 998139; facsimile: 011 49 8268 998200; email: productsupport@grob-aerospace.de.

You may review copies at FAA, Central Region, Office of the Regional Counsel, 901 Locust, Room 506, Kansas City, Missouri 64106; or at the Office of the Federal Register, 800 North Capitol Street, NW., suite 700, Washington, DC.

Is There Other Information That Relates to This Subject?

(h) German AD 2003-185, dated May 30, 2003, and German AD 2003-231, dated July 16, 2003 also address the subject of this AD.

Issued in Kansas City, Missouri, on September 19, 2003.
Michael Gallagher,
Manager, Small Airplane Directorate, Aircraft Certification Service.

[FR Doc. 03-24283 Filed 9-29-03; 8:45 am]

BILLING CODE 4910-13-U